DEPARTMENT OF HEALTH AND HUMAN SERVICES

Centers for Disease Control and Prevention

[30-Day 12-12BZ]

Agency Forms Undergoing Paperwork Reduction Act Review

The Centers for Disease Control and Prevention (CDC) publishes a list of information collection requests under review by the Office of Management and Budget (OMB) in compliance with the Paperwork Reduction Act (44 U.S.C. chapter 35). To request a copy of these requests, call (404) 639-7570 or send an email to omb@cdc.gov. Send written comments to CDC Desk Officer, Office of Management and Budget, Washington, DC or by fax to (202) 395-5806. Written comments should be received within 30 days of this notice.

Proposed Project

Data collection for the residential care facility and adult day service center components of the National Study of Long-Term Care Providers—NEW—National Center for Health Statistics (NCHS), Centers for Disease Control and Prevention (CDC).

Background and Brief Description

Section 306 of the Public Health Service (PHS) Act (42 U.S.C. 242k), as amended, authorizes that the Secretary of Health and Human Services (DHHS), acting through NCHS, “shall collect statistics on health resources * * * [and] utilization of health care, including extended care facilities, and other institutions.”

NCHS seeks approval to collect data for the residential care facility (RCF) and adult day services center (ADSC) components of a planned new survey, the National Study of Long-Term Care Providers (NSLTCP). A one year clearance is requested.

As background here are some details on the plans for the whole study, of which this data collection is two components. The entire NSLTCP is being designed to (1) Broaden NCHS' ongoing coverage of paid, regulated long-term care (LTC) providers; (2) merge with existing administrative data on LTC providers (i.e. Centers for Medicare and Medicaid Services (CMS) data on nursing home, home health, and hospice care); (3) update data more frequently on LTC providers for which nationally representative administrative data do not exist; and (4) enable comparisons across LTC provider types and monitor the supply and use of these providers.

The data will be collected in the 50 states and the District of Columbia from two types of LTC facilities: 11,701 RCFs and 5,000 ADSCs. The data to be collected from RCCs and ADSCs include basic characteristics, services offered, staffing, and practices of providers, as well as distributions of the demographics, physical functioning, and cognitive functioning of users (RCC residents and ADSC participants) aggregated to the RCC/ADSC level.

Expected users of data from this collection effort include, but are not limited to CDC; other Department of Health and Human Services (DHHS) agencies, such as the Office of the Assistant Secretary for Planning and Evaluation and the Agency for Healthcare Research and Quality; provider associations, such as LeadingAge (formerly the American Association of Homes and Services for the Aging), National Center for Assisted Living, American Seniors Housing Association, Assisted Living Federation of America, and National Adult Day Services Association; universities; foundations; and other private sector organizations, such as AARP.

Expected burden from data collection is 30 minutes for respondents. We estimate that 10% of RCC and ADSC directors will be called for 15 minutes of data retrieval when there are errors or omissions in their returned surveys. There is no cost to respondents other than their time to participate. The total estimate of annualized burden is 8,769 hours.

Estimated Annualized Burden Table
Type of respondent | Form name | Number of respondents | Number of responses/ respondent | Average burden/ response (in hours)
RCC Director | RCC Questionnaire | 11,701 | 1 | 30/60
ADSC Director | ADSC Questionnaire | 5,000 | 1 | 30/60
RCC and ADSC Directors | Data Retrieval | 1,670 | 1 | 15/60

Kimberly S. Lane,
Deputy Director, Office of Science Integrity, Office of the Associate Director for Science, Office of the Director, Centers for Disease Control and Prevention.

[FR Doc. 2012-13795 Filed 6-6-12; 8:45 am]

BILLING CODE 4163-18-P